GENERAL SERVICES ADMINISTRATION

[Notice-MK-2017-03; Docket No. 2017-0002; Sequence 16]

The Presidential Commission on Election Integrity (PCEI); Upcoming Public Advisory Meeting

AGENCY: Office of Government-wide Policy (OGP), General Services Administration (GSA).

ACTION: Meeting notice with request for comments.

SUMMARY: The Presidential Advisory Commission on Election Integrity (Commission) was established pursuant to Executive Order 13799. The Commission will hold a meeting open to the public on Tuesday, September 12, 2017. The purpose of and summary agenda for this meeting is for the Commission to receive information relevant to its advisory function pursuant to Executive Order 13799, including information from individuals with experience and knowledge of the public's perception of election integrity and related issues, the effects of such public perception on voter turnout and willingness to participate in the electoral process, and current issues related to election integrity that affect the public's perception of the nation's elections systems and processes.

DATES: Meeting Date: The Commission will meet on Tuesday, September 12, 2017, beginning at 10:00 a.m. and ending no later than 4:00 p.m. (Eastern Time). Comments pertaining to the meeting should be submitted no later than 5:00 p.m. Eastern Standard Time on Friday, September 8, 2017.

ADDRESSES: The Commission will meet at the New Hampshire Institute of Politics (Saint Anselm College), 100 Saint Anselm Drive, Manchester, New Hampshire 03102. This location is accessible to individuals with disabilities.

FOR FURTHER INFORMATION CONTACT: For questions, please contact Mr. Ron Williams, Policy Advisor, Presidential Advisory Commission on Election Integrity, via email at ElectionIntegrityStaff@ovp.eop.gov or telephone at 202-395-1587. For additional information, please check the Commission's Web page at https://www.whitehouse.gov/blog/2017/07/13/presidential-advisory-commission-election-integrity.

SUPPLEMENTARY INFORMATION:

Background

The Commission was established pursuant to Executive Order 13799 of May 11, 2017 (https://www.federalregister.gov/documents/2017/05/16/2017-10003/establishment-of-presidential-advisory-commission-on-election-integrity). The Commission will function solely as an advisory body, and shall submit a report to the President of the United States that identifies the following:

a. Those laws, rules, policies, activities, strategies, and practices that enhance the American people's confidence in the integrity of the voting processes used in Federal elections;

b. Those laws, rules, policies, activities, strategies, and practices that undermine the American people's confidence in the integrity of the voting processes used in Federal elections; and

c. Those vulnerabilities in voting systems and practices used for Federal elections that could lead to improper voter registrations and improper voting, including fraudulent voter registrations and fraudulent voting.

Meeting Access and Attendance at the Meeting

The Commission will convene its meeting at the New Hampshire Institute of Politics (Saint Anselm College), 100 Saint Anselm Drive, Manchester, New Hampshire 03102. This location is accessible to individuals with disabilities.

Due to space limitations, members of the public interested in attending the meeting must register in advance. To register, please submit your full name, organization (if any), email address, and phone number to Ron Williams at the email address above by 5:00 p.m. Eastern Time on Friday, September 8, 2017. Registrations will no longer be accepted once the room reaches maximum capacity.

Meeting materials may be accessed online at https://www.whitehouse.gov/blog/2017/07/13/presidential-advisory-commission-election-integrity. Meeting minutes will be posted within 90 days of the meeting.

Procedures for Providing Written Comments

The Commission invites public comments related to laws, rules, policies, activities, strategies, and practices that enhance and/or undermine the American people's confidence in the integrity of the voting processes in Federal elections, as well as vulnerabilities in the voting systems and practices used for Federal elections. The Commission values public feedback. Public comments may be submitted at any time prior to the submission of the Commission's final report (timeframe to be determined); however, comments pertaining to a particular meeting should be submitted at least five (5) days prior to a specific meeting.

There will not be oral comments from the public at the September 12, 2017 meeting. Individuals who wish to submit written comments for the Commission's consideration may do so by either of the following methods:

• Regulations.gov: http://www.regulations.gov. Submit public comments or written statements via the Federal eRulemaking portal by searching for “Notice-MK-2017-03.” Select the link “Comment Now” that corresponds with “Notice-MK-2017-03.” Follow the instructions provided on the screen. Please include your name, organization (if any), and “Notice-MK-2017-03” on your attached document. Please note that any information, including personal or contact information, that you provide on the www.Regulations.gov comment form or in an attachment will be publicly disclosed as it is entered, searchable on the Internet, and included in any paper docket.

• Mail: Public comments may also be submitted via mail. Please address public comments to: Mr. Ron Williams, Policy Advisor, Presidential Advisory Commission on Election Integrity, 1650 Pennsylvania Avenue NW., Eisenhower Executive Office Building (EEOB), Rm. 268, Washington, DC 20504. Please note that any written comments received via mail will be uploaded to the docket on Regulations.gov, where they will be viewable in full by the public, including any personal or contact information.

Written comments not received by 5:00 p.m. Eastern Standard Time on Friday, September 8, 2017 may be submitted but will not be considered for the meeting held on Tuesday, September 12, 2017.

Public comments may be submitted at any time prior to the submission of the Commission's final report (timeframe to be determined); however, comments pertaining to a particular meeting should be submitted at least five (5) days prior to a specific meeting.

Dated: August 18, 2017.
Allison Fahrenkopf Brigati,
Associate Administrator, Office of Government-wide Policy.

[FR Doc. 2017-17968 Filed 8-24-17; 8:45 am]

BILLING CODE 6820-14-P